DEPARTMENT OF TRANSPORTATION

Federal Aviation Administration

Approval of Noise Compatibility Program; Ocala International Airport; Ocala, FL

AGENCY: Federal Aviation Administration, DOT.

ACTION: Notice.

SUMMARY: The Federal Aviation Administration (FAA) announces its findings on the Noise Compatibility Program submitted by the City of Ocala under the provisions of 49 U.S.C. (the Aviation Safety and Noise Abatement Act, hereinafter referred to as “the Act”) and 14 CFR part 150. These findings are made in recognition of the description of Federal and nonfederal responsibilities in Senate Report No. 96-52 (1980). On December 28, 2008, the FAA determined that the noise exposure maps submitted by the City of Ocala under part 150 were in compliance with applicable requirements. On June 23, 2008, the FAA approved the Ocala International Airport noise compatibility program. All of the recommendations of the program were approved. No program elements relating to new or revised flight procedures for noise abatement were proposed by the airport operator.

DATES: Effective Date: The effective date of the FAA's approval of the Ocala International Airport Noise Compatibility Program is June 23, 2008.

FOR FURTHER INFORMATION CONTACT: Ms. Lindy McDowell, Federal Aviation Administration, Orlando Airports District Office, 5950 Hazeltine National Drive, Suite 400, Orlando, Florida 32822, phone number: 407-812-6331. Documents reflecting this FAA action may be reviewed at this same location.

SUPPLEMENTARY INFORMATION: This notice announces that the FAA has given its overall approval to the Noise Compatibility Program for Ocala International Airport, effective June 23, 2008.

Under Section 47504 of the Act, an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Federal Aviation Regulations (FAR) part 150 is a local program, not a Federal Program. The FAA does not substitute its judgment for that of the airport operator with respect to which measure should be recommended for action. The FAA's approval or disapproval of FAR part 150 program recommendations is measured according to the standards expressed in FAR part 150 and the Act, and is limited to the following determinations:

a. The Noise Compatibility Program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport Noise Compatibility Program are delineated in FAR Part 150, Section 1505. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Airports District Office in Orlando, Florida.

City of Ocala submitted to the FAA on October 2, 2007, the Noise Exposure Maps, descriptions, and other documentation produced during the noise compatibility planning study conducted from August, 2004, through October, 2005. The Ocala International Airport Noise Exposure Maps were determined by FAA to be in compliance with applicable requirements on December 28, 2007. Notice of this determination was published in the Federal Register on December 28, 2007.

The Ocala International Airport study contains a proposed Noise Compatibility Program comprised of actions designed for phased implementation by airport management and adjacent jurisdictions from the year 2007 to the year 2012. It was requested that FAA evaluate and approve this material as a Noise Compatibility Program as described in Section 47504 of the Act. The FAA began its review of the Program on December 28, 2007, and was required by a provisions of the Act to approve or disapprove the program within 180-days (other than the use of new or modified flight procedures for noise control). Failure to approve or disapprove such program within the 180-day period shall be deemed to be an approval of such program.

The submitted program contained seven (7) proposed actions for noise mitigation on and off the airport. The FAA completed its review and determined that the procedural and substantive requirements of the Act and FAR part 150 have been satisfied. The overall program, therefore, was approved by the FAA effective June 23, 2008.

Outright approval was granted for all of the specific program elements. Mitigation measures approved include:

Land Use Measures

1. Update City of Ocala Land Development Regulations

Prevent future development of noise sensitive uses within the 60 DNL and greater noise contours. (NCP, pages ES-4, 96, 97; and Table ES-1.)

FAA Action: Approved. This is within the authority of the local land use jurisdictions; the Federal government does not control local land use. Outside the DNL 65 dB noise contour, FAA as a matter of policy encourages local efforts to prevent new noncompatible development immediately abutting the DNL 65 dB contour and to provide a buffer for possible growth in noise contours beyond the forecast period.

2. Land Use Mitigation Program

Purchase developed and undeveloped land within the DNL 65dB and greater noise contours. (NCP, pages ES-4, 65, 66, 97; Figures 11.4, 11.5; and Tables ES-1, 9.2, 9.3, 11.4.)

FAA Action: Approved. Acquisitions are limited to existing non-compatible land uses located with in the 65 DNL noise contour of the approved NEMs, and are consistent with FAA's 1998 remedial mitigation policy (63 FR 16409). The specific identification of structures recommended for inclusion in the program and specific definition of the scope of the program will be required prior to approval for Federal funding. Approval of this measure does not commit the FAA to future Federal funding assistance.

3. Redevelopment Program

Redevelop land purchases as part of the Land Use Mitigation Program. (NCP, pages ES-4, 101, 107; and Table ES-1.) Ensures that any re-development or re-use of land purchased as part of the Land Use Mitigation Program will be compatible with airport operations.

FAA Action: Approved. Eligibility for Federal funding of any re-use/re-development program will be determined at the time of application.

4. Public Notification

Advertise noise exposure contours and availability of Part 150 documents local newspapers 3 times each year. (NCP, pages ES-4, 101, 102; and Table ES-1.)

FAA Action: Approved.

Program Management Measures

1. Pilot Education Program

Development, publication and distribution of informational materials for pilots outlining noise abatement policies. (NCP, pages ES-4, 104; and Table ES-1.)

FAA Action: Approved. Inserts or other information must not be construed as mandatory air traffic procedures. Prior to release, language in the brochure shall be reviewed for wording and content by the appropriate FAA office. The content of the brochure is subject to specific approval by appropriate FAA officials outside of the FAR Part 150 process and is not approved in advance by this determination.

2. Community Information Program

Development, publication and distribution of informational materials for residents and businesses outlining airport noise abatement efforts. (NCP, pages ES-4, 104, 105; and Table ES-1.)

FAA Action: Approved.

3. Periodic NCP Review

Review of operational activity and NCP implementation to assist in determining future NEM/NCP update timing. (NCP, pages ES-4, 105; and Table ES-1.)

FAA Action: Approved. If made necessary by NEM changes, an update to the NCP would address requirements of 150.23(e)(9). Section 150.21(d), as amended, states that the NEM should be updated if there is either a substantial new noncompatible use within the DNL 65 dB contour, or if there is a significant reduction in noise over existing noncompatible land uses [69 FR 57622, dated 9/24/04].

These determinations are set forth in detail in a Record of Approval signed by the FAA on June 23, 2008. The Record of Approval, as well as other evaluation materials and the documents comprising the submittal, are available for review at the FAA office listed above and at the administrative office of the City of Ocala. The Record of Approval also will be available on-line at: http://www.faa.qov/airports_airtraffic/airports/environmental/airport_noise/part_150/states/ .

Issued in Orlando, Florida on June 27, 2008.
W. Dean Stringer,
Manager, Orlando Airports District Office.

[FR Doc. E8-15954 Filed 7-16-08; 8:45 am]

BILLING CODE 4910-13-M